DEPARTMENT OF THE INTERIOR

Fish and Wildlife Service

North American Wetlands Conservation Council; Standard Grant Application Instructions

AGENCY: Fish and Wildlife Service, Interior.

ACTION: Notice of availability.

SUMMARY: This notice includes instructions for applying for standard grants (see SUPPLEMENTARY INFORMATION) under the U.S. North American Wetlands Conservation Act.

DATES: Proposals may be submitted at any time. To ensure adequate review time prior to upcoming North American Wetlands Conservation Council (Council) meetings, the Council Coordinator must receive proposals by March 1, 2002 and July 26, 2002.

ADDRESSES: For detailed application instructions, sample proposal information, frequently asked questions, and summaries of recently approved proposals, visit the North American Wetlands Conservation Act (NAWCA) web site at http://birdhabitat.fws.gov. If you cannot access the web site, contact the Council Coordinator at U.S. Fish and Wildlife Service, Division of Bird Habitat Conservation, 4401 North Fairfax Drive, Room 110, Arlington, VA 22203 or by phone at 703-358-1784 or by fax at 703-358-2282 or by e-mail at dbhc@fws.gov. Send proposals to the Council Coordinator at the above address by mail (faxed proposals are not accepted). Mail one original, three copies, and a computer disk version of the proposal to the Council Coordinator. Send a copy of the proposal to your U.S. North American Waterfowl Management Plan (NAWMP) Coordinator (see next section) and all partners in the proposal.

FOR FURTHER INFORMATION CONTACT: North American Wetlands Conservation Council Coordinator at (703) 358-1784 or dbhc@fws.gov, Bettina Sparrowe at (703) 358-1784 or bettina_sparrowe@fws.gov or a NAWMP Joint Venture Coordinator (Coordinator) at the numbers given below. Coordinators can give you advice about developing a proposal and about proposal ranking and can provide compliance requirements for the National Environmental Policy Act, Endangered Species Act, National Historic Preservation Act, and contaminant surveys. Even though all areas of all States are not in a Joint Venture, each Coordinator is available to provide information to NAWCA applicants. To determine which Coordinator to call, consult the following Joint Venture list (note that only the States in Joint Ventures are listed below) or consult the NAWMP Joint Venture map at http://birdhabitat.fws.gov/NAWCA/images/namap.gif.

Atlantic Coast (CT, DE, FL, GA, MA, MD, ME, NC, NH, NJ, NY, PA, Puerto Rico, RI, SC, VA, VT, WV) 413-253-8269

Central Valley (Central Valley of CA) 916-414-6459

Gulf Coast (AL, LA, MS, TX) 505-248-6876

Intermountain West (AZ, CA, CO, ID, MT, NM, NV, OR, UT, WA, WY) 801-975-3330 x 129

Lower Mississippi Valley (AR, KY, LA, MS, OK, TN, TX) 601-629-6600

Pacific Coast (CA,OR, WA) 360-696-7630

Playa Lakes (CO, KS, NM, OK, TX) 303-659-8750

Prairie Pothole (IA, MN, MT, ND, SD) 303-236-8155 x 252

Rainwater Basin (NE) 308-382-8112

San Francisco Bay (San Francisco Bay in CA) 916-414-6459

Upper Mississippi River-Great Lakes (IA, IL, IN, KS, MI, MN, MO, NE, OH, WI) 612-713-5433

SUPPLEMENTARY INFORMATION: The Council has two U.S. conservation grants programs for acquisition, restoration, and enhancement of wetlands in the U.S. Any individual or organization who has a long-term, partner-based project with matching funds can apply. The focus of this notice is standard grant proposals for requests from $51,000 to $1,000,000 per proposal. A separate notice will be issued later this year for small grant proposals for requests up to $50,000 per proposal.

This notice provides general instructions to develop and submit a NAWCA standard grant proposal. In order to complete a proposal correctly, consult the web site at http://birdhabitat.fws.gov for detailed instructions. If you cannot access the web site or want a printed version of the instructions or a personal computer disk that contains proposal forms, contact the Council Coordinator.

We prepare the instructions to assist partners in developing proposals that comply with NAWCA. The NAWCA established the Council, a Federal-State-private body that recommends projects to the Migratory Bird Conservation Commission (MBCC) for final approval and requires that proposals contain a minimum 1:1 ratio of non-Federal matching funds to grant funds. “Match” (as referred to throughout this document) can be cash, in-kind services, or land acquired/title donated for wetlands conservation purposes.

Paperwork Reduction Act

In accordance with the Paperwork Reduction Act (44 U.S.C. 3501), the Office of Management and Budget has assigned clearance number 1018-0100 to this information collection authorized by the North American Wetlands Conservation Act of 1989, as amended (16 U.S.C. 4401 et seq.). The information collection solicited is necessary to gain a benefit in the form of a grant, as determined by the Council and MBCC, is necessary to determine the eligibility and relative value of wetland projects, results in an approximate paperwork burden of 400 hours per application, and does not carry a premise of confidentiality. Your response is voluntary. An agency may not conduct or sponsor, and a person is not required to respond to, a collection of information unless it displays a currently valid OMB control number. The public is invited to submit comments on the accuracy of the estimated average burden hours for application preparation and to suggest ways in which the burden may be reduced. Comments may be submitted to: Information Collection Clearance Officer, Mail Stop 224 ARLSQ, U.S. Fish and Wildlife Service, Washington, DC 20240 and/or Desk Officer for Interior Department (1018-0100), Office of Information and Regulatory Affairs, Office of Management and Budget, New Executive Office Building, Washington, DC 20503.

Standard Grant Instructions

This Federal Register notice contains basic information about NAWCA standard grant proposals. Detailed instructions are available at the NAWCA web site at http://birdhabitat.fws.gov. A standard grant proposal is a 4-year plan of action supported by a NAWCA grant and partner funds to conserve wetlands and wetlands-associated fish and wildlife through acquisition (including easements and land title donations), restoration, and/or enhancement (including creation). Match must be non-Federal and at least equal the grant request (referred to as a 1:1 match). Match is eligible up to two years prior to the year the proposal is submitted, and grant and match funds are eligible during the two-year future Grant Agreement period.

Proposal Format. The Summary has a specific format. With the exception of the one-page Cover Page, Matching Contributions Plan, Standard Form 424, and two-page Summary, there are no page number limitations. The ultimate size of the proposal will depend on its complexity, but we request that you attempt to minimize the size of the proposal. Each page should be no larger than 8.5 by 11 inches. Neither the original proposal, nor required copies, should be permanently bound. A proposal contains the following sections: Project Officer's Page; Summary; Purpose and Scope; Budget and Matching Contributions Plan; Technical Assessment Questions; Funding Commitment Letters; Tract and Location Information; Standard Form 424 and Attachments; and Required Attachments.

Proposal Project Officer's Page and Checklist. This part contains the following sections: Proposal Title, State(s), Latitude/Longitude; Date Submitted; Previous and Future Proposals; Project Officer Information; Project Officer's Statements; and Comments on the NAWCA Program. Correspondence is sent only to the Project Officer. Each proposal can have only one Project Officer, who must belong to the grant recipient's organization. The Project Officer states that partners have reviewed the Grant Agreement, so the Grant Agreement is available via the NAWCA web site at http://birdhabitat.fws.gov/NAWCA/grant.pdf.

Proposal Summary. The Summary is the only narrative material provided to the Council and MBCC, so it must be descriptive and succinct. This part contains the following sections: Proposal Title, Congressional Districts, States; and Narrative.

Proposal Purpose and Scope. Use this part to describe how all the pieces of the proposal fit together to form a solid wetlands and migratory bird conservation proposal that should be funded under NAWCA. This part contains the following sections: Context of the NAWCA Proposal; Threat and Special Circumstances; Public and Private Use and Support; and Work Plan.

Proposal Budget and Matching Contributions Plan. This part contains the following sections: Compliance Statement; Subrecipients; Budget Justification; Justification for Grant Request that Exceeds $1,000,000; and Matching Contributions Plan. The Budget Justification displays activities and costs broken out by grant funding and partner funding according to cost categories (Non-contract Personnel and Travel, Fee Title Acquisitions and Donations, Easement and Lease Acquisitions and Donations, Materials and Equipment, Contracts, and Indirect and Other Costs) and contains eligibility information about partner matching funds/work and cost details.

If you have matching funds in addition to those used in the proposal and you need to maintain the eligibility of those funds beyond two years for future proposals, you may request approval to use the match in the future by submitting a one-page Matching Contributions Plan (Match Plan) with the proposal. A Match Plan is optional, but, if submitted, must include the following information: Match Plan Amount and Purpose; Match Intent; Match Need; and a chart.

Technical Assessment Questions. The Council uses seven Technical Assessment Questions, site visits, available funding, and other information to select proposals. See the table at the end of this notice that shows the Technical Assessment Questions and point values. Questions 1 and 2 include priority lists of species, so you need to refer to the web site or the Council Coordinator's office to complete a proposal. Answer the questions for the completed proposal and all tracts in the proposal (grant and match).

Funding Commitment Letters. To document match, send signed commitment letters from all matching and non-matching partners, including the grant recipient and private landowners (if providing funds or land as match), with the proposal. The proposal will be returned if the 1:1 match is not documented by partner letters. Letters must document the exact contribution level identified in the proposal and whether the contribution is in cash, goods, services, or land; the partner's responsibility in the proposal's implementation, including land donations; how the partner was involved in proposal planning; and that the partner is fully aware of how the contribution will be spent. Letters have 3 sections: Contributions Statements; Compliance Statements; and Partnership Statements.

Tract and Location Information. Give the following information for each tract in the proposal: (1) Acreage; (2) Activity, method, and schedule for work on the tract; (3) Funding source; (4) Township, range, section, county, and state; (5) Title holder at completion of proposal; and (6) Whether tract is affected by a Matching Contributions Plan.

Provide one to two 8.5 by 11-inch color (preferred) maps with the following information: (1) Location of tracts within State(s) and counties where grant and match funds have or will be spent; (2) Identification of fee-title, easement, and lease tracts or acquisition priority areas if specific tracts cannot be given; (3) Location of major water control structures and other restoration/enhancement features; (4) Location of natural features, such as rivers or lakes, to show how the proposal fits into the natural landscape; and (5) If applicable, location of previous and future NAWCA grant proposal sites; and (6) If applicable, where the proposal is in relation to a larger wetlands conservation project. The proposal title should be on each map. One to two aerial photographs may also be submitted.

Required Attachments. If applicable, attach 8.5 by 11-inch copies of the following: (1) Easements and leases in place when the proposal was submitted; (2) Model easements and leases; (3) Your negotiated indirect cost rate agreement; and (4) Sample/model landowner agreements.

Standard Form 424 “Application for Federal Assistance” and Assurances Forms B “Non-construction” and D “Construction.” All applicants, except the U.S. Fish and Wildlife Service, must send an SF 424 and the B, D, or both Assurances forms with the proposal. All applicants must comply with the laws listed on the Assurances forms. The forms are available via the Internet at http://www.gsa.gov/forms/, at http://www.nctc.fws.gov/fedaid/toolkit/toolkit.pdf or from the Council Coordinator.

Exhibits and Examples. Examples of various sections of a proposal, lists of eligible and ineligible activities and costs, general process information about the NAWCA program, and people and organizations who may be contacted for assistance are available via the web site or from the Council Coordinator and should be consulted at some time in the proposal development process.

Blank Proposal Forms. The following forms are available from the web site for you to download and use to develop a proposal: (1) A blank proposal form developed using Microsoft Word; (2) A blank proposal form using Word Perfect; and (3) A blank optional budget table using Microsoft Excel (very useful for planning and may be submitted with the proposal).

Dated: January 15, 2002.
Steve Funderburk,
Acting Deputy Assistant Director, Migratory Birds and, State Programs, U.S. Fish and Wildlife Service.

Technical assessment questions | Points = 100
#1. How does the proposal contribute to the conservation of waterfowl habitat? | Maximum = 15
A. High priority species | 0-7
B. Other priority species | 0-5
C. Other waterfowl | 0-3
#2. How does the proposal contribute to the conservation of other wetland-dependent or wetland-associated migratory birds? | Maximum = 15
A. Bird Conservation Regions and high priority birds
B. Other wetland-associated birds
#3. How does the proposal benefit the North American Waterfowl Management Plan and contribute to sites that have been recognized for wetland values? | Maximum = 15
A. Joint Ventures and Areas of Concern: Prairie Pothole Joint Venture, Other Joint Ventures, Areas of Concern, combination | 0-10, 0-8, 0-4, 0-?
B. Specially recognized sites | 0-5
#4. How does the proposal relate to the National status and trends of wetlands types? | Maximum = 10
A. Decreasing wetlands types | 0-10
B. Stable wetlands types | 0-4
C. Increasing wetlands types | 0-1
D. No trend data types | 0-?
E. Uplands | 0-8
#5. How does the proposal contribute to long-term conservation of wetlands and associated habitats? | Maximum = 15
A. Benefits in perpetuity | 0-12
B. Benefits for 26-99 years | 0-8
C. Benefits for 10-25 years | 0-6
D. Benefits for <10 years | 0-4
E. Significance to long-term conservation | 0-3
#6. How does the proposal contribute to the conservation of habitat for Federally listed, proposed, and candidate endangered species, State-listed species, and other wetland-dependent fish and wildlife? | Maximum = 10
A. Federal endangered, threatened, proposed or candidate species (1, 2, >2) | 0-3, 0-4, 0-5
B. State-listed species (≥1) | 0-3
C. Other wetland-dependent fish and wildlife (≥1) | 0-2
#7. How does the proposal satisfy the partnership purpose of the North American Wetlands Conservation Act? | Maximum = 20
A. Ratio of non-Federal match to grant (≤ 1:1, 1.01-1.49:1, 1.5-1.99:1, ≥ 2:1) | 0, 1, 3, 6
B. Matching partners contributing 10% of the grant request (0-, 1, 2, 3, >3) | 0, 1, 2, 3
C. Partner categories (1, 2, 3, >3) | 0, 2, 3, 4
D. Important partnership aspects | 0-7

[FR Doc. 02-3459 Filed 2-12-02; 8:45 am]

BILLING CODE 4310-55-P